DEPARTMENT OF ENERGY

Federal Energy Regulatory Commission

[Docket No. CP09-463-000]

ANR Pipeline Company; Notice of Request Under Blanket Authorization

September 16, 2009.

Take notice that on September 10, 2009, ANR Pipeline Company (ANR), 717 Texas Street, Houston, Texas 77002, filed in Docket No. CP09-463-000, a prior notice request pursuant to sections 157.205 and 157.216 of the Federal Energy Regulatory Commission's regulations under the Natural Gas Act for authorization to abandon by sale to ATP Oil & Gas Corporation (ATP), approximately 9.67 miles of 6-inch diameter pipeline, located in offshore Louisiana, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, ANR proposes to abandon by sale to ATP, the El 30-34 Facilities, which consist of approximately 9.67 miles of 6-inch diameter pipeline bearing Minerals Management Service Segment No. 8888, ANR Line No. 795, beginning at a point on ATP's Eugene Island Area Block 30 JA Platform and ending at the upstream side of a subsea 8-inch tap valve located on ANR's 20-inch pipeline in Eugene Island Area Block 34 designated as Line No. 733, in Federal Waters, offshore Louisiana. ANR also proposes to abandon its interest in any appurtenances and facilities related to Line No. 795, including, and without limitation, the pipeline riser, metering facilities including Meter No. 512202 (excluding any Electronic Gas Measurement Equipment (EGM)), and deck piping associated with the El 30-34 Facilities. ANR states that they will continue to operate the meter for ATP, and will continue to own, operate, and maintain ANR's existing side valve assembly on ANR's Line No. 733, EGM, and gas sampling equipment.

Any questions regarding the application should be directed to Rene Staeb, Manager, Project Determinations & Regulatory Administration, ANR Pipeline Company, 717 Texas Street, Houston, Texas 77002, or call at (832) 320-5215 or fax (832) 320-6215 or Rene_Staeb@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E9-22859 Filed 9-22-09; 8:45 am]

BILLING CODE 6717-01-P